DEPARTMENT OF HOMELAND SECURITY

Coast Guard

46 CFR Part 401

[USCG-2014-0481; 1625-AC22]

Great Lakes Pilotage Rates—2015 Annual Review and Adjustment—Extension of Comment Period

AGENCY: Coast Guard, DHS.

ACTION: Notice.

SUMMARY: The Coast Guard is extending the comment period for the notice of proposed rulemaking (NPRM) entitled “Great Lakes Pilotage Rates—2015 Annual Review and Adjustment,” published on September 4, 2014, for 30 days. We have decided to extend the comment period as we have received new financial data that could affect the discretion provided by Step 7 of the Appendix A methodology and the final rate.

DATES: Comments and related material must either be submitted to our online docket via http://www.regulations.gov on or before December 31, 2014 or reach the Docket Management Facility by that date.

ADDRESSES: You may submit comments identified by docket number USCG-2014-0481 using any one of the following methods:

(1) Federal eRulemaking Portal: http://www.regulations.gov.

(2) Fax: 202-493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: If you have questions on this notice, call or email Mr. Todd Haviland, Director, Great Lakes Pilotage, Commandant (CG-WWM-2), Coast Guard; telephone 202-372-2037, email Todd.A.Haviland@uscg.mil, or fax 202-372-1914. If you have questions on viewing or submitting material to the docket, call Ms. Cheryl Collins, Program Manager, Docket Operations, telephone 202-366-9826.

SUPPLEMENTARY INFORMATION:

I. Public Participation and Request for Comments

We encourage you to participate in this rulemaking by submitting comments and related materials. All comments received will be posted without change to http://www.regulations.gov and will include any personal information you have provided.

A. Submitting Comments

If you submit a comment, please include the docket number for this rulemaking (USCG-2014-0481), indicate the specific section of this document to which each comment applies, and provide a reason for each suggestion or recommendation. You may submit your comments and material online or by fax, mail, or hand delivery, but please use only one of these means. We recommend that you include your name and a mailing address, an email address, or a phone number in the body of your document so that we can contact you if we have questions regarding your submission.

To submit your comment online, go to http://www.regulations.gov and insert “USCG-2014-0481” in the “Search” box. Click on “Submit a Comment” in the “Actions” column. If you submit your comments by mail or hand delivery, submit them in an unbound format, no larger than 8½ by 11 inches, suitable for copying and electronic filing. If you submit comments by mail and would like to know that they reached the Facility, please enclose a stamped, self-addressed postcard or envelope.

We will consider all comments and material received during the comment period and may change this notice of proposed rulemaking (NPRM) based on your comments.

B. Viewing Comments and Documents

To view comments, as well as documents mentioned in this preamble as being available in the docket, go to http://www.regulations.gov and insert “USCG-2014-0481” in the “Search” box. Click “Search.” Click the “Open Docket Folder” in the “Actions” column. If you do not have access to the Internet, you may view the docket online by visiting the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

C. Privacy Act

Anyone can search the electronic form of comments received into any of our dockets by the name of the individual submitting the comment (or signing the comment, if submitted on behalf of an association, business, labor union, etc.). You may review a Privacy Act notice regarding our public dockets in the January 17, 2008 issue of the Federal Register (73 FR 3316).

II. Regulatory History and Information

The Coast Guard published an NPRM entitled “Great Lakes Pilotage Rates—2015 Annual Review and Adjustment,” on September 4, 2014, (79 FR 52602) proposing rate adjustments for pilotage services on the Great Lakes, last amended in March 2014. The proposed adjustments would establish new base rates made in accordance with a full ratemaking procedure. Additionally, the Coast Guard proposed to exercise the discretion provided by Step 7 of the Appendix A methodology to result in an upward adjustment to match the rate increase of the Canadian Great Lakes Pilotage Authority. The NPRM also proposed temporary surcharges to accelerate recoupment of necessary and reasonable training costs for the pilot associations. All comments on this NPRM were originally due by November 3, 2014.

III. Background and Purpose

On November 14, 2014, we received the final reports of the revenue audits conducted by CohnReznick, LLP for the three pilotage districts. Performance of these audits was unanimously recommended by the Great Lakes Pilotage Advisory Committee to the Coast Guard at the most recent committee meeting on July 23-24, 2014, in Washington, DC. The data found by the revenue audits are important to analyzing the proposed rule as the findings may alter the final rate. We believe that the data provided in the revenue audits are “other supportable circumstances” that may alter the rate through the discretion provided by Step 7 of the ratemaking methodology. As these revenue audits were received after the comment period closed, we wish to give commenter's the opportunity to review these revenue audits, which can be found in the docket, and make comments on the revenue audits.

V. Authority

This notice is issued under authority of 5 U.S.C. 552(a).

Dated: November 25, 2014.
Scott J. Smith,
Captain, U.S. Coast Guard, Acting Director of Marine Transportation Systems, U.S. Coast Guard.

[FR Doc. 2014-28272 Filed 11-28-14; 8:45 am]

BILLING CODE 9110-04-P